DEPARTMENT OF COMMERCE

National Oceanic and Atmospheric Administration

50 CFR Part 679

Fisheries of the Exclusive Economic Zone Off Alaska

CFR Correction

In Title 50 of the Code of Federal Regulations, part 600 to end, revised as of October 1, 2004, § 679.22 is corrected by reinstating paragraph (b)(5) as follows:

§ 679.22 Closures.

* * * * *

(b) * * *

(5) Sitka Pinnacles Marine Reserve. (i) No vessel required to have a Federal fisheries permit under § 679.4(b) may fish for groundfish or anchor in the Sitka Pinnacles Marine Reserve, as described in Figure 18 to this part.

(ii) No vessel required to have on board an IFQ halibut permit under § 679.4(d) may fish for halibut or anchor in the Sitka Pinnacles Marine Reserve, as described in Figure 18 to this part.

[FR Doc. 05-55510 Filed 9-7-05; 8:45 am]

BILLING CODE 1505-01-D